DEPARTMENT OF COMMERCE

National Oceanic and Atmospheric Administration

[Docket No. 001214350-1240-02, I.D. 082701G]

RIN 0648-ZB08

Financial Assistance for Research and Development Projects in the Gulf of Mexico and Off the U.S. South Atlantic Coastal States; Marine Fisheries Initiative (MARFIN)

AGENCY: National Marine Fisheries Service (NMFS), National Oceanic and Atmospheric Administration (NOAA), Commerce.

ACTION: Notice of solicitation for applications.

SUMMARY: Subject to the availability of funds, NMFS (hereinafter referred to as “we” or “us”) announces the availability of Federal assistance under the Marine Fisheries Initiative (MARFIN) Grant Program. This announcement provides guidelines, evaluation criteria and selection procedures for the program.

Under the MARFIN program, we provide financial assistance for research and development projects that optimize the use of fisheries in the Gulf of Mexico and off the South Atlantic States of North Carolina, South Carolina, Georgia, and Florida involving the U.S. fishing industry (recreational and commercial), including fishery biology, resource assessment, socio-economic assessment, management and conservation, selected harvesting methods, and fish handling and processing.

DATES: We must receive your application by close of business (5 p.m. eastern daylight time on December 14, 2001. Applications received after that time will not be considered for funding.

ADDRESSES: You can obtain an application package from, and send your completed applications(s) to: Ellie Francisco Roche, Chief, State/Federal Liaison Office, Southeast Regional Office, NMFS, 9721 Executive Center Drive, N., St. Petersburg, FL 33702. You may also obtain the application package from the MARFIN Home Page at: http://caldera.sero.nmfs.gov/grants/programs/marfin.

You must submit one signed original and nine signed copies of the completed application (including supporting information). We will accept neither facsimile applications, nor electronically forwarded applications.

FOR FURTHER INFORMATION CONTACT: Ellie Francisco Roche, Chief, State/Federal Liaison Office, (727) 570-5324.

SUPPLEMENTARY INFORMATION:

I. Introduction

A. Background

MARFIN is a competitive Federal assistance program that funds projects seeking to optimize research and development benefits from U.S. marine fishery resources through cooperative efforts involving the best research and management talents to accomplish priority activities. Projects funded under MARFIN provide answers for fishery needs covered by the NMFS Strategic Plan, available from the Southeast Regional Office (see ADDRESSES), particularly those goals relating to: rebuilding over-fished marine fisheries, maintaining currently productive fisheries, and integrating conservation of protected species and fisheries management. Areas of emphasis for MARFIN are formulated from recommendations received from non-Federal scientific and technical experts and from NMFS’ research and operations officials.

B. Funding

We are soliciting applications for Federal assistance pursuant to 15 U.S.C. 713c-3(d). This document describes how you can apply for a grant or cooperative agreement under the MARFIN Grant Program and how we will determine which applications we will fund.

Approximately $2.0 million may be available in fiscal year (FY) 2002 for funding projects. This amount includes possible in-house projects and $750,000 for 1-year projects for red snapper research. (See II. Funding Priorities.) Publication of this notice obligate’s neither NMFS to award any specific grant or cooperative agreement nor all or any parts of the available funds.

Project proposals accepted for funding for a project period over 1 year that include multiple project components and severable tasks to be funded during each budget period do not compete for funding in subsequent budget periods within the approved project period. However, funding for subsequent project components is contingent upon the availability of funds and satisfactory performance and is at the sole discretion of the agency.

C. Catalog of Federal Domestic Assistance

This program is described in the “Catalog of Federal Domestic Assistance” under program number 11.433, Marine Fisheries Initiative (MARFIN).

II. Funding Priorities

Your proposal must address one of the priorities listed below as they pertain to federally managed species or species relevant to Federal fisheries management. If you select more than one priority, you should list first on your application the priority that most closely reflects the objectives of your proposal.

Highest consideration is given to funding projects that have the greatest probability of recovering, maintaining, improving, or developing fisheries; improving the understanding of factors affecting recruitment success; and/or generating increased values and recreational opportunities for fisheries. Projects are evaluated as to the likelihood of achieving these objectives, with consideration of the magnitude of the eventual economic or social benefits that may be realized. Priority is given to funding projects in the subject areas listed in this section, but proposals in other areas are considered on a funds-available basis. There is no preference between short-term and long-term projects.

A. Bycatch

The bycatch of biological organisms (including interactions with sea turtles and marine mammals) by various fishing gears can have wide-reaching impacts from a fishery’s management and an ecological standpoint, with the following major concerns:

1. Shrimp trawl fisheries. Studies are needed to contribute to the regional shrimp trawl bycatch program (including the southern U.S. Atlantic rock shrimp fishery) being conducted by NMFS in cooperation with state fisheries management agencies, commercial and recreational fishing organizations and interests, environmental organizations, universities, Councils, and Commissions. Specific guidance and research requirements are contained in the Cooperative Bycatch Plan for the Southeast, available from NMFS (see ADDRESSES). In particular, the studies should address:

(a) Data collection and analyses to expand and update current bycatch estimates, temporally and spatially emphasizing areas of greatest impact by shrimping. Sampling effort should include estimates of numbers, weight, and random samples of size (age) structure of associated bycatch complex, with emphasis on those overfished species under the jurisdiction of the Councils. Date collection should also include mortality, age, and length information for red drum in both inshore and offshore shrimp fisheries.

(b) Assessment of the status and condition of fish stocks significantly impacted by shrimp trawler bycatch, with emphasis given to overfished species under the jurisdiction of the Councils. Other sources of fishing and nonfishing mortality should be considered and quantified as well.

(c) Identification, development, and evaluation of gear, non-gear, and tactical fishing options to reduce bycatch.

(d) Improved methods for communicating with and improving technology and information transfer to the shrimp industry.

(e) Development and evaluation of statistical methods to estimate the bycatch of priority management species in the Gulf and South Atlantic shrimp trawl fisheries.

2. Pelagic longline fisheries. Several pelagic longline fisheries exist in the Gulf and South Atlantic, targeting highly migratory species, such as tunas, sharks, and swordfish. Priority areas include:

(a) Development and evaluation of gear and fishing tactics to minimize bycatch of undersized and unwanted species, including sea turtles, marine mammals, billfish, and overfished finfish species/stocks.

(b) Assessment of the biological impact of longline bycatch on related fisheries.

3. Reef fish fisheries. The reef fish complex is exploited by a variety of fishing gear and tactics. The following research on bycatch of reef fish species is needed:

(a) Development and evaluation of gear and fishing tactics to minimize the bycatch of undersized and unwanted species, including sea turtles and marine mammals.

(b) Characterization and assessment of the impact of bycatch of undersized target species, including release mortality, during recreational fishing and during commercial longline, bandit gear and trap fishing.

(c) Determination of the release mortality by depth of red snapper caught on commercial bandit rigs that are electrically or hydraulicly powered.

4. Finfish trawl fisheries. Studies are needed on quantification and qualification of the bycatch in finfish trawl fisheries, such as the flounder and fly-net fisheries in the South Atlantic.

5. Gillnet fisheries. Studies are needed on quantification and qualification of the bycatch in coastal and shelf gillnet fisheries for sciaenids, scombrids, bluefish, monkfish, and dogfish sharks of the South Atlantic and Gulf of Mexico (particularly interaction with sea turtles and marine mammals). Development and evaluation of gear and fishing tactics to minimize bycatch of undersized and non-target species, including marine mammals and sea turtles, is also needed.

6. Economic considerations of bycatch reduction. (a) Develop and test models, using actual or hypothesized data, that explicitly consider the economic impacts to the directed fishery and gains to the bycatch fishery. The models should include the effects of the management systems for the directed and bycatch fisheries and should attempt to describe criteria for the correct level of bycatch reduction (e.g., marginal cost and value of reduction are equal).

(b) Develop economic incentives and other innovative alternatives to gear and season/area restrictions as ways to reduce bycatch. The proposal should attempt to contrast the relative costs, potential gains, and level of bycatch reduction associated with traditional methods and any innovative alternatives addressed by the proposal.

(c) Describe the costs and returns performance of South Atlantic and Gulf of Mexico shrimp fisheries as necessary background for the economics of bycatch reduction. (See Section V.C.1., regarding collection of information.)

B. Reef Fish

Some species within the reef fish complex are exhibiting signs of being overfished, either because of directed efforts or because of being the bycatch of other fisheries. The ecology of reef fish makes them vulnerable to overfishing, because they tend to concentrate over specific types of habitat with patchy distribution. This behavior pattern can make traditional fishery statistics misleading. Priority research areas include:

1. Collection of basic biological data for species in commercially and recreationally important fisheries. (a) Age and growth of reef fish. (1) Description of age and growth patterns, especially for red, vermilion, gray, and cubera snappers; gray triggerfish; gag; black grouper; hogfish; red porgy; and other less dominant forms in the management units for which data are lacking.

(2) Contributions to the development of annual age-length keys and description of age structures for exploited populations for all species in the complex addressed in the Reef Fish and Snapper/Grouper Management Plans for the Gulf and South Atlantic, respectively, prioritized by importance in the total catch.

(3) Design of sampling systems to provide a production-style aging program for the reef fish fishery. Effective dockside sampling programs are needed over a wide geographic range, especially for groupers, to collect information on reproductive state, size, age, and sex.

(b) Reproduction studies of reef fish. (1) Maturity schedules, fecundity, and sex ratios of commercially and recreationally important reef fish, especially gray triggerfish, gag, and red porgy in the Gulf and South Atlantic.

(2) Studies of all species to characterize the actual reproductive contribution of females by age.

(3) Identification and characterization of spawning aggregations by species, area, size group and season.

(4) Effects of fishing on changes of sex ratios for gag, red grouper, and scamp, and disruption of aggregations.

(5) Investigations of the reproductive biology of gag, red grouper and other grouper species.

(c) Recruitment of reef fish. (1) Source of recruitment in Gulf and South Atlantic waters, especially for snappers, groupers, and amberjacks.

(2) Annual estimation of the absolute or relative recruitment of juvenile gag, gray snapper, and lane snapper to estuarine habitats off the west coast of Florida and to similar estuarine nursery habitats along the South Atlantic Bight; development of an index of juvenile gag recruitment for the South Atlantic based on historical databases and/or field studies.

(3) The contribution of live-bottom habitat and habitat areas of particular concern (Oculina banks) off Fort Pierce, Florida and off west central Florida to reef fish recruitment.

(d) Stock structure of reef fish. (1) Movement and migration patterns of commercially and recreationally valuable reef fish species, especially gag in the Gulf and South Atlantic and greater amberjack between the South Atlantic and Gulf.

(2) Biochemical/immunological and morphological/meristic techniques to allow field separation of lesser amberjack, almaco jack, and banded rudderfish from greater amberjack to facilitate accurate reporting of catch.

(3) Stock structure of greater amberjack in the Gulf and South Atlantic.

(4) Fishery dependent and fishery independent data of wreakfish from the eastern North Atlantic.

2. Population assessment of reef fish. (a) Effect of reproductive mode and sex change (protogynous hermaphroditism) on population size and characteristics, with reference to sizes of fish exploited in the fisheries and the significance to proper management.

(b) Source and quantification of natural and human-induced mortalities, including release mortality estimates for charter boats, headboats, and private recreational vessels, especially for red snapper and the grouper complex.

(c) Determination of the habitat and limiting factors for important reef fish resources in the Gulf and South Atlantic.

(d) Description of habitat and fish populations in the deep reef community and the prey distributions supporting the community.

(e) Development of statistically valid indices of abundance for important reef fish species in the South Atlantic and Gulf, especially red grouper, Goliath grouper, speckled hind, red porgy, Warsaw grouper and Nassau grouper.

(f) Assessment of tag performance on reef fish species, primarily snappers and groupers. Characteristics examined should include shedding rate, effects on growth and survival, and ultimately, the effects of these characteristics on estimations of vital population parameters.

(g) Stock assessments to establish the status of major recreational and commercial species. Innovative methods are needed for stock assessments of aggregate species, including the effect of fishing on genetic structure and the incorporation of sex change for protogynous hermaphrodites into stock assessment models.

(h) Assessment of Florida Bay recovery actions on reef fish recruitment and survival.

3. Management of reef fish. (a) Research in direct support of management, including catch-and-release mortalities, by gear and depth.

(b) Evaluation of the use of marine reserves as an alternative or supplement to current fishery management practices and measures for reef fish. Studies should focus on the Experimental Oculina Reef Reserve, the Florida Keys National Marine Sanctuary, as well as on the identification of prime sites for the establishment of reserves in the U.S. south Atlantic and Gulf of Mexico.

(c) Characterization and evaluation of biological impacts (e.g., changes in age or size structure of reef fish populations in response to management strategies).

(d) Evaluation of vessel log data for monitoring the fishery and for providing biological and economic information for management; and methods for matching log data to Trip Information Program samples for indices of effort.

(e) For the U.S. Caribbean, collection of economic cost and returns data sufficient to evaluate management proposals to limit the use of fish and/or lobster traps. (See Section V.C.1., regarding collection of information.)

(f) Determine the value and economic impact of recreational angling in the headboat fishery of the U.S. Caribbean. This will require the use of data to generate recreational demand equations for trips in general and for various key species. Economic impact assessment will require the collection of appropriate expenditure data and imputation using standard impact assessment software. (See Section V.C.1., regarding collection of information.)

C. Red Snapper Research

The Sustainable Fisheries Act of 1996 required the Secretary of Commerce to conduct a thorough and independent evaluation of the scientific and management basis for conserving and managing the red snapper fishery. NMFS has developed a research plan to improve the management of red snapper to address this requirement. The research priorities below are based on this research plan.

1. Red snapper bycatch. The bycatch of red snapper can have significant impacts from a fisheries management and ecological standpoint. Research on bycatch of red snapper should focus on the following:

(a) Shrimp trawl bycatch of red snapper. Specific guidance and research requirements are contained in the Cooperative Bycatch Plan for the Southeast, available from NMFS (see ). Studies are needed to address:

(1) Identification, development, and evaluation of gear, non-gear, and tactical fishing options to reduce bycatch of red snapper.

(2) Development and evaluation of statistical methods to estimate the bycatch mortality of red snapper in the Gulf shrimp trawl fisheries.

(3) Studies of the survival rates of juvenile red snapper that escape shrimp trawls through bycatch reduction devices (BRDs).

(b) Directed red snapper fisheries. The reef fish fishery is exploited by a variety of fishing gear and tactics. The following research on regulatory discards is needed to better evaluate the effectiveness of management measures such as minimum size limits and closed seasons:

(1) Development and evaluation of gear and fishing tactics to minimize the bycatch of or increase the survival of discarded red snapper and other reef fish species.

(2) Characterization and assessment of the impact of bycatch of undersized reef fish species, including release mortality, during recreational and commercial fishing. Research on the catch-and-release mortality of red snapper and other reef fish species, by gear (e.g., capture by commercial bandit rigs that are electrically or hydraulicly powered), fishery (e.g., headboat, private boat, charter boat, commercial), and depth. Studies are needed to specifically relate “sink or swim” data, which can be obtained through observer programs, with long-term survival rates.

(3) Research to document predation rates on discarded red snapper and other reef fish species.

(c) Economic considerations of bycatch reduction. (1) Develop and test models, using actual or hypothesized data, that explicitly consider the costs and gains of bycatch reduction. The models should include the effects of the management systems for the directed and bycatch fisheries and should attempt to describe criteria for the correct level of bycatch reduction (e.g., marginal cost and value of reduction are equal). Studies should evaluate alternatives to bycatch reduction devices (BRDs).

(2) Develop economic incentives and other innovative alternatives to gear and season/area restrictions as ways to reduce bycatch. The proposal should attempt to contrast the relative costs, potential gains, and level of bycatch reduction associated with traditional methods and any innovative alternatives addressed by the proposal.

(3) Develop and apply methodology to evaluate the use of bycatch quotas for all fisheries but particularly with respect to red snapper bycatch in the shrimp fishery.

2. Red snapper biological information. Collection of basic biological data on red snapper.

(a) Contributions to the development of annual age-length keys and description of the age structure of red snapper populations.

(b) Design of sampling systems to provide a production-style aging program for the red snapper fishery. Effective dockside sampling programs are needed over a wide geographic range to collect information on reproductive state, size, age, and sex.

(c) Reproduction studies of red snapper.

(1) Maturity schedules, fecundity, and sex ratios of red snapper.

(2) Studies to characterize the actual reproductive contribution of females by age.

(d) Identification of sources of recruitment of red snapper in Gulf waters.

3. Red snapper population assessment. (a) Determination of the habitat and limiting factors for important red snapper populations in the Gulf.

(b) Estimates of red snapper abundance, age structure and population dynamics on oil platforms and other artificial structures.

4. Management of red snapper. (a) Characterization and evaluation of biological impacts (e.g., changes in age or size structure of red snapper populations in response to management strategies).

(b) Research to evaluate the use of minimum size limits as a management tool in the red snapper fishery.

(c) Research to collect economics data on Texas anglers since Texas does not participate in the Marine Recreational Fisheries Statistics Survey (MRFSS. Data requirements include those identified in the MRFSS add-on economic survey developed by NMFS. (See Section V.C.1., regarding collection of information.)

(d) Research to develop bioeconomic models to optimize allocations and benefits derived from the red snapper resource.

D. Coastal Migratory Pelagic Fisheries

The commercial and recreational demand for migratory coastal pelagics has led to overfishing for certain species. Additionally, some are transboundary with Mexico and other countries and may ultimately demand international management attention. Current high priorities include:

1. Recruitment indices for king and Spanish mackerel, cobia, dolphin, wahoo, and bluefish, primarily from fishery-independent data sources.

2. Fishery-independent methods of assessing stock abundance of king and Spanish mackerel.

3. Release mortality data for all coastal pelagic species.

4. Improved catch statistics for all species in Mexican waters, with special emphasis on king mackerel, dolphin, and wahoo. This includes length-frequency and life history information.

5. Information on populations of coastal pelagics overwintering off the Gulf of Mexico and the South Atlantic States of North Carolina, South Carolina, Georgia, and Florida, especially concerning population size, age, and movement patterns. Calculate the mixing rates for Atlantic/Gulf king mackerel on an annual basis.

6. Development of a practical method for aging dolphin.

7. Basic biostatistics for cobia, dolphin, and wahoo to develop age-length keys and maturation schedules for stock assessments and to evaluate stock structures.

8. Impact of bag limits on total catch and landings of king and Spanish mackerel, dolphin, wahoo, and cobia.

9. Demand and/or supply functions for the commercial king mackerel fisheries, including baseline cost and return data. Cooperative efforts that cover the entire Southeast and employ common methodologies for all geographic areas are strongly encouraged.

E. Groundfish and Estuarine Fishes

Substantial stocks of groundfish and estuarine species occur in the Gulf and South Atlantic. Most of the database for assessments comes from studies conducted by NMFS and state fishery management agencies. Because of the historical and current size of these fish stocks, of their importance as predator and prey species, and of their current or potential use as commercial and recreational fisheries, more information on their biology and life history is needed. General research needs are:

1. Red drum. (a) Size and age structure of the offshore adult stock in the Gulf and South Atlantic.

(b) Life history parameters and stock structure for the Gulf and the South Atlantic: Migratory patterns, long-term changes in abundance, growth rates, and age structure. Specific research needs for Atlantic red drum are estimates of fecundity as a function of length and weight and improved coast-wide coverage for age-length keys.

(c) Catch-and-release mortality rates from inshore and nearshore waters.

(d) Estimates of absolute abundance of red drum in the Gulf of Mexico and the Atlantic.

2. Life history and stock structure for weakfish, menhaden, spot, croaker, flounder, sheepshead, black drum, mullet, and white trout in the Gulf and the South Atlantic. Migratory patterns, long-term changes in abundance, growth rates, and age structure and comparisons of the inshore and offshore components of recreational and commercial fisheries.

3. Improved catch-and-effort statistics from recreational and commercial fisheries, including development of age-length keys for size and age structure of the catch, to develop production models. (See Section V.C.1., regarding collection of information.)

4. Abundance and distribution information on spiny dogfish off the coast of North Carolina, and particularly southern North Carolina.

5. Restoration of access to historical habitat for diadromous fish. Study, design, and plan installation of up and downstream fish passage facilities or removal of migratory obstructions. Construct fish passages and remove obstructions. Conduct post construction evaluation of effectiveness in restoring habitat access and fish stocks.

F. Essential Fish Habitat

1. Determine the effects of fishing gears (e.g., trawls and traps) and practices (e.g., gear retrieval and anchoring) on essential fish habitat (EFH), with emphasis on benthic habitats within the EEZ of the Caribbean, southern U.S. Atlantic, and Gulf of Mexico regions.

2. Develop scientific data to allow the identification and refinement, as appropriate, of EFH designations for the various life stages of Federally managed species.

3. Develop scientific data to allow the identification and refinement, as appropriate, of Habitat Areas of Particular Concern (HAPC) designation for the various life stages of Federally managed species.

4. Develop GIS mapping protocols and tools to allow the presentation of EFH, HAPC, fishery distribution information, and other relevant data for the southeastern United States, including Puerto Rico and the U.S. Virgin Islands.

G. General

Many other areas of research including methods for data collection, management, analysis, and better conservation, need to be addressed for improved understanding and management of fishery resources. Examples of such research needs include:

1. Identification and profiling of fishing communities, characterization of community dependence upon fishery resources and demographics of the families dependent on fishing or fishing related businesses in the Gulf of Mexico and U.S. Caribbean. Focus should be on identification of all types of fishery dependency including commercial harvest, recreational harvest, processing, support and supply, etc. The degree of dependence on specific sectors and species should be identified. (See Section V.C.1., regarding collection of information.)

2. Development of improved methods and procedures for transferring technology and educating constituency groups concerning fishery management and conservation programs. Of special importance are programs concerned with controlled access and introduction of conservation gear.

3. Design and evaluation of innovative approaches to fishery management with special attention given to those approaches that control access to specific fisheries.

4. Examination of the feasibility and efficacy of license buy-back programs.

5. Social, cultural, and /or economic aspects of establishing fishery reserves. Studies should employ accepted data collection methods and should include consumptive users, non-consumptive users, and persons not dependent on use of marine resources. Various management alternatives should be considered in the studies, e.g., exclude all users, all consumptive users, size of reserve, anchoring rules, or any other relevant management tools. (See Section V.C.1., regarding collection of information.)

6. Design and evaluation of limited access options for the red snapper and king mackerel recreational fisheries with specific emphasis on modes of fishing and jurisdictional issues.

7. Estimation of demand models for recreational fishing trips when the target species include a single species, an aggregate of related species, or all species combined. Studies using new data from the Southeast economics add-on to Marine Recreational Fisheries Statistics Survey are highly encouraged. Priority species include red drum Spanish mackerel, red grouper, wahoo, and dolphin.

8. Sociocultural survey of commercial fishing in the Florida Keys. Proposals should address all fishing enterprises including potential sociocultural effects of large marine reserves in the Tortugas area. (See Section V.C.1., regarding collection of information.)

9. Studies to evaluate the value of non-consumptive uses of marine resources, especially as related to diving activities and marine reserves.

10. Examination and comparison of the expected economic and social impacts of fisheries regulations with realized impact for all regulated species. Attempts should be made to identify and isolate behavioral causes of divergence as opposed to environmental causes. (See Section V.C.1., regarding collection of information.)

11. Examination of the motivational causes that determine fishing behavior, both commercial and recreational. For the commercial sector, including the operation side of the for-hire industry, specific attention should be given to whether profit maximization is an appropriate motivational assumption for fishing behavior. (See Section V.C.1., regarding collection of information.)

12. Determination of the recreational value and economic impact of the headboat fishery in the Southeast. This will require the use of collected data to generate recreational demand equations for trips in general and for various key species. Economic impact assessment will require the collection of appropriate expenditure data and imputation using standard impact assessment software. (See Section V.C.1., regarding collection of information.)

13. Evaluation of the extent and impact of recreational sales (all species) on recreational harvests, commercial closures and demand for recreational fishing. (See Section V.C.1., regarding collection of information.)

14. Identification of options for the economic affects of effort control/limited access in the recreational fishery. (See Section V.C.1., regarding collection of information.)

15. Evaluation of the issue of fishing opportunity being transferred from commercial to recreational or conservation sectors under a transferable rights program. (See Section V.C.1., regarding collection of information.)

16. Evaluation of the recreational harvest of spiny lobster and queen conch in the U.S. Caribbean. (See Section V.C.1., regarding collection of information.)

III. How to Apply

A. Eligibility

To apply for grants or cooperative agreements, you must follow the instructions in this document. Eligible applicants include institutions of higher education, hospitals, other nonprofits, commercial organizations, and state, local and Indian tribal governments. Federal agencies or institutions are not eligible. Foreign governments, organizations under the jurisdiction of foreign governments, and international organizations are excluded for purposes of this solicitation since the objective of the MARFIN program is to optimize research and development benefits from U.S. marine fishery resources. (See A. Background.)

We are strongly committed to broadening the participation of Historically Black Colleges and Universities, Hispanic Serving Institutions, and Tribal Colleges and Universities in its educational and research programs. DOC/NOAA’s goals are to achieve full participation by Minority Serving Institutions (MSI) in order to advance the development of human potential, to strengthen the nation’s capacity to provide high-quality education, and to increase opportunities for MSIs to participate in and benefit from Federal financial assistance programs. DOC/NOAA encourages all applicants to include meaningful participation of MSIs.

B. Duration and Terms of Funding

We will award grants or cooperative agreements for a maximum period of up to three years, consisting of one, two, or three budget periods. The award period depends upon the duration of funding requested in the application, the decision of the NMFS selecting official on the amount of funding, the results of post-selection negotiations between the applicant and NOAA officials, and pre-award review of the application by NOAA and Department of Commerce (DOC) officials. Normally, each project budget period is 12 months in duration.

C. Cost Sharing

Cost-sharing is not required for the MARFIN program. Applications must provide the total budget necessary to accomplish the project, including contributions and/or donations. Because 15 U.S.C. 713c-3(c)(4)(B) provides that the amount of Federal funding must be at least 50 percent of the estimated cost of the project, the total costs shown in the proposal will be evaluated for appropriateness according to the administrative rules, including 15 CFR Part 14.23 and 15 CFR Part 24.24, as appropriate. If an applicant chooses to cost-share, and if that application is selected for funding, the applicant is bound by the percentage of the cost share reflected in the grant or cooperative agreement award. Note: Costs incurred in either the development of a project or the financial assistance application, or time expended in any subsequent discussions or negotiations prior to the award, are neither reimbursable nor recognizable as part of the recipient's cost share.

D. Application Format and Requirements

The Department of Commerce Pre-Award Notification Requirements for Grants and Cooperative Agreements contained in the Federal Register notice of October 1, 2001 (66 FR 49917), are applicable to this solicitation. Your application must be complete and must follow the format described in the MARFIN Application Package. The standard forms in a MARFIN application include the MARFIN Project Budget and the MARFIN Project Summary. Applicants should contact the NMFS Southeast Regional Office for a copy of this solicitation’s MARFIN Application Package (see ADDRESSES). You may also obtain the application package from the MARFIN Home Page at: http://caldera.sero.nmfs.gov/grants/programs/marfin.htm.

Project applications must identify the principal participants, and include copies of any agreements describing the specific tasks to be performed by participants. Project applications should give a clear presentation of the proposed work, the methods for carrying out the project, its relevance to managing and enhancing the use of Gulf of Mexico and/or South Atlantic fishery resources, and cost estimates as they relate to specific aspects of the project. Budgets must include a detailed breakdown, by category of expenditures, with appropriate justification for both the Federal and non-Federal shares.

Applications should exhibit familiarity with related work that is completed or ongoing. Where appropriate, proposals should be multi-disciplinary. In addition to referencing specific area(s) of special interest, proposals should state whether the research applies to the Gulf of Mexico only, the South Atlantic only, or to both areas. Successful applicants may be required to collect and manage data in accordance with standardized procedures and formats approved by NMFS and to participate with NMFS in specific cooperative activities that are determined by consultations between NMFS and successful applicants before project grants are awarded. All applications must include funding for the principal investigator to participate in an annual MARFIN Conference in Tampa, FL at the completion of the project.

Applications must be one-sided and unbound. All incomplete applications are returned to the applicant. Ten copies (one original and nine copies) of each application are required and should be submitted to the NMFS Southeast Regional Office, State/Federal Liaison Office (see ADDRESSES). The Office of Management and Budget (OMB) has approved 10 copies, under OMB Control No. 0648-0175.

E. Indirect Costs

The total dollar amount of the indirect costs proposed in an application under this program must not exceed the indirect cost rate negotiated and approved by a cognizant Federal agency prior to the proposed effective date of the award or 25 percent of the Federal share of the total proposed direct costs dollar amount in the application, whichever is less. A copy of the current, approved, negotiated Indirect Cost Agreement with the Federal Government must be included with the application.

IV. Screening, Evaluation, and Selection Procedures

A. Initial Screening of Applications

When we receive applications we will screen them to ensure that they were received by the deadline date (see DATES); include SF 424 signed and dated by an authorized representative; were submitted by an eligible applicant; address one of the funding priorities for federally managed species; and include a budget, statement of work, and milestones, and identify the principal investigator. Before the deadline, you have the opportunity to correct any deficiencies in your application. After the deadline, the application must remain as submitted; no changes can be made to it. If your application does not conform to these requirements and the deadline for submission has passed, the application is returned without further consideration.

We do not have to screen applications before the submission deadline, nor do we have to give you an opportunity to correct any deficiencies that cause your application to be rejected.

B. Evaluation of Proposed Projects

1. Technical evaluation. Applications responsive to this solicitation will be evaluated by three or more appropriate private and public sector experts to determine their technical merit. These reviewers will provide individual evaluations of the proposals. No consensus advice will be given. These reviewers provide comments and assign scores to the applications based on the following criteria, with the weights shown in parentheses:

a. Does the proposal have a clearly stated goal(s) with associated objectives that meet the needs outlined in the project narrative? (30 points maximum)

b. Does the proposal clearly identify and describe, in the project outline and statement of work, scientific methodologies and analytical procedures that will adequately address project goals and objectives? (30 points maximum)

c. Do the principal investigators provide a realistic timetable to enable full accomplishment of all aspects of the research? (20 points maximum)

d. How effective are the proposed methods in enabling the principal investigators to maintain stewardship of the project performance, finances, cooperative relationships, and reporting requirements? (10 points maximum)

e. Does the budget appropriately allocate and justify costs? (10 points maximum)

2. Scientific Panel. Applications together with the technical reviewers’ comments and scores are presented to a Scientific Panel composed of NMFS scientific experts. This panel provides comments and rates each proposal as either “Recommended for Funding” or “Not Recommended for Funding” based on merits of the science, the necessity of the information that would be gained by the project, and the likelihood of assisting industry or fisheries management.

3. MARFIN Panel. Proposals that are “Recommended for Funding” by the Scientific Panel are presented to a panel of non-NOAA fishery experts known as the MARFIN Panel. Each member of the MARFIN Panel individually considers if needs of the Agency are addressed in each proposal, if the project assists industry, and if the project addresses issues that are important to regional fisheries management. The individuals on the MARFIN Panel provide comments and rate each of these proposals as either “Recommended for Funding” or “Not Recommended for Funding.” No consensus advice will be given by the panel. The Program Manager ranks the proposals in the order of preferred funding, based on the number of MARFIN Panel members recommending the proposal for funding.

4. Regional Administrator. The proposals reviewed by the MARFIN Panel are ranked by the Program Manager in the order of preferred funding, based on the number of MARFIN Panel members recommending the proposal for funding, then provided to the Regional Administrator, who is the selecting official. The Regional Administrator also receives the MARFIN Panel members’ individual comments, and comments from the Scientific Panel for projects it rated as “Recommended for Funding.”

The Regional Administrator, in consultation with the Assistant Administrator for Fisheries, determines the projects to be funded. Though rarely used, the Regional Administrator has an option to make a selection that falls outside the MARFIN Panel’s order of preferred funding on the following grounds: for geographic diversity, if not enough projects have addressed a priority, or because of duplication with other funded grants within NOAA. The Regional Administrator will justify in writing any such selection.

The exact amount of funds awarded, the final scope of activities, the project duration, and specific NMFS cooperative involvement with the activities of each project are determined in pre-award negotiations between the applicant, the NOAA Grants Office and the NMFS Program Office. Projects must not be initiated by recipients until a signed award is received from the NOAA Grants Office. Successful applications generally are recommended within 210 days from the date of publication of this notice. The earliest start date of awards average 90 days after each project is selected and after all NMFS/applicant negotiations of cooperative activities have been completed. The earliest start date of awards is about 300 days after the date of publication of this notice. Applicants should consider this selection and processing time in developing requested start dates for their applications.

V. Administrative Requirements

A. Your Obligations as an Applicant

You must:

1. Meet all application requirements and provide all information necessary for the evaluation of the proposal, including one signed original and nine signed copies of the application.

2. Be available to respond to questions during the review and evaluation of the proposal(s).

B. Your Obligations as a Successful Applicant (Recipient)

If you are selected to receive a grant award for a project, you must:

1. Manage the day-to-day operations of the project, be responsible for the performance of all activities for which funds are granted, and be responsible for the satisfaction of all administrative and managerial conditions imposed by the award.

2. Keep records sufficient to document any costs incurred under the award, and allow access to these records for audit and examination by the Secretary of Commerce, the Comptroller General of the United States, or their authorized representatives; and, submit financial status reports (SF 269) to NOAA Grants in accordance with the award conditions.

3. Submit semiannual project status reports on the use of funds and progress of the project to us within 30 days after the end of each 6-month period. You will submit these reports to the individual identified as the NMFS Program Officer in the funding agreement.

4. Submit a final report within 90 days after completion of each project to the NMFS Program Officer. The final report must describe the project and include an evaluation of the work you performed and the results and benefits in sufficient detail to enable us to assess the success of the completed project.

5. In addition to the final report, we request that you submit any publications printed with grant funds (such as manuals, surveys, etc.) To the NMFS Program Officer for dissemination to the public.

We are committed to using available technology to achieve the timely and wide distribution of final reports to those who would benefit from this information. Therefore, you are required to submit final reports in electronic format, in accordance with the award terms and conditions, for publication on the NMFS MARFIN Home Page. You may charge the costs associated with preparing and transmitting your final reports in electronic format to the grant award.

We will provide you with OMB-approved formats for the semiannual and final reports.

C. Other Requirements of Recipients

If a grant is made that specifically requires the collection of information from the public, the grantee is responsible for preparing the documentation necessary to obtain Paperwork Reduction Act (PRA) approval prior to the start of the collection. This approval process takes a minimum of 4 months. This provision especially applies to priorities A.6.(c), B.3.(e), B.3.(f), C.4.(c), E.3., G.1., G.5., G. 8., G.10., G.11., G.12., G.13., G.14., G.15., and G.16. Information on the PRA process can be found at the following Web site address: www.rdc.noaa.gov@pra.

Applications under this program are subject to the provisions of Executive Order 12372, “Intergovernmental Review of Federal Programs.”

Prior notice and an opportunity for public comments are not required by the Administrative Procedure Act or any other law for this notice concerning grants, benefits, and contracts. Therefore, a regulatory flexibility analysis is not required for purposes of the Regulatory Flexibility Act.

This action has been determined to be not significant for purposes of Executive Order 12866.

Notwithstanding any other provision of law, no person is required to respond to, nor shall any person be subject to a penalty for failure to comply with, a collection of information subject to the Paperwork Reduction Act, unless that collection displays a currently valid OMB control number.

This notice contains collection-of-information requirements subject to the Paperwork Reduction Act. The use of Standard Forms 424, SF-LLL, and SF-424B have been approved by OMB under the respective control numbers 0348-0043, 0348-0046 and 0348-0040. The other application requirements and the semi-annual and final reports have been approved by OMB under control number 0648-0175. Public reporting burden for the latter collections of information is estimated to average 4 hours for an application, 1 hour for a semi-annual report, and 1 hour for a final report. These estimates include the time for reviewing instructions, searching existing data sources, gathering and maintaining the data needed, and completing and reviewing the collection of information. Send comments regarding these burden estimates or any other aspect of these collections of information, including suggestions for reducing this burden, to Ellie Francisco Roche (see ADDRESSES).

Authority: 15 U.S.C. 713c-3(d).

Dated: October 5, 2001.
William T. Hogarth,
Assistant Administrator for Fisheries, National Marine Fisheries Service.

[FR Doc. 01-25902 Filed 10-12-01; 8:45 am]

BILLING CODE 3510-22-S